GENERAL SERVICES ADMINISTRATION

Identity Management; Notice of Public Meeting

AGENCY: Office of Governmentwide Policy, GSA.

ACTION: Notice of Public Meeting.

SUMMARY: This notice sets forth the schedule and summary agenda for a meeting with the privacy advocacy community to describe Federal implementation of external identity services at Identity Assurance Level 1, as defined in OMB Memorandum M-04-04, and discuss community concerns.

DATES: August 10, 2009 from 9 a.m.-3:30 p.m.

FOR FURTHER INFORMATION CONTACT: Mr. Brant Petrick, at brant.petrick@gsa.gov. Information regarding agenda, time, and location will be made available on the identity management Web site at: http://www.idmanagement.gov, questions about the meeting should be directed to Mr. Brant Petrick, at brant.petrick@gsa.gov.

ADDRESSES: The American Institute of Architects, 1735 New York Ave., NW., Washington, DC 20006-5292.

SUPPLEMENTARY INFORMATION: Type of Meeting: Open and registration is required. Further details on the meeting agenda and the registration process will be posted on the OGP Identity Management Web site at: http://www.idmanagement.gov.

Proposed Schedule and Agenda: The GSA, Office of Governmentwide Policy will host an open session on August 10, 2009 from 9 a.m.-3:30 p.m., at The American Institute of Architects, 1735 New York Ave., NW., Washington, DC 20006-5292. There will be a one hour break for lunch.

During this meeting, GSA is tentatively scheduled to present information on how the Government plans to implement the OpenID, infocard, and InCommon identity solutions for public interaction with Federal Government resources at identity assurance Level 1. Briefings will include the Trust Framework Provider Approval Process, the Scheme Adoption Process, Federal profiles, and how privacy considerations are being addressed. Presenters will include the Government and industry representatives. The day will end with an open question and answer period.

Members of the public interested in attending should register at www.idmanagement.gov.

Written questions are welcome at any time before the meeting. Please submit to: Information regarding agenda, time, and location will be made available on the identity management Web site at: http://www.idmanagement.gov. Questions about the meeting should be directed to Mr. Brant Petrick, at brant.petrick@gsa.gov, (Please note that public seating for this meeting is limited and is available on a first-come, first-served basis.)

Dated: July 31, 2009.
Michele G. Heffner,
Acting Assistant Deputy Associate Administrator, Office of Governmentwide Policy.

[FR Doc. E9-18806 Filed 8-5-09; 8:45 am]

BILLING CODE 6820-34-P